ENVIRONMENTAL PROTECTION AGENCY

[FRL-8216-8]

Clean Water Act; Contractor Access to Confidential Business Information

AGENCY: Environmental Protection Agency (EPA).

ACTION: Notice of Intended Transfer of Confidential Business Information to Contractor.

SUMMARY: The Environmental Protection Agency (EPA) intends to transfer confidential business information (CBI) collected from airport deicing operations to SciMetrika. Transfer of the information will allow the contractor to support EPA in the planning, development, and review of effluent limitations guidelines and standards for the airport deicing point source category. The information being transferred was or will be collected from airports and airlines under the authority of section 308 of the Clean Water Act (CWA). Interested persons may submit comments on this intended transfer of information to the address noted below.

DATES: Comments on the transfer of data are due September 11, 2006.

ADDRESSES: Comments may be sent to Mr. M. Ahmar Siddiqui, Document Control Officer, Engineering and Analysis Division (4303T), Room 6231S EPA West, U.S. EPA, 1200 Pennsylvania Ave., NW., Washington, DC 20460.

FOR FURTHER INFORMATION CONTACT: Mr. M. Ahmar Siddiqui, Document Control Officer, at (202) 566-1044, or via e-mail at siddiqui.ahmar@epa.gov.

SUPPLEMENTARY INFORMATION: EPA has transferred CBI to various contractors and subcontractors over the history of the effluent guidelines program. EPA determined that this transfer was necessary to enable the contractors and subcontractors to perform their work in supporting EPA in planning, developing, and reviewing effluent guidelines and standards for certain industries.

Today, EPA is giving notice that it has entered into a contract with SciMetrika, contract number EP-C-06-075, located in Research Triangle Park, North Carolina. The purpose of this contract is to secure statistical analysis support for EPA in its development, review, implementation, and defense of water-related initiatives for the airport deicing point source category.

All EPA contractor, subcontractor, and consultant personnel are bound by the requirements and sanctions contained in their contracts with EPA and in EPA's confidentiality regulations found at 40 CFR Part 2, Subpart B. SciMetrika will adhere to EPA-approved security plans which describe procedures to protect CBI. SciMetrika will apply the procedures in these plans to CBI previously gathered by EPA and to CBI that may be gathered in the future for the airport deicing point source category. The security plans specify that contractor personnel are required to sign non-disclosure agreements and are briefed on appropriate security procedures before they are permitted access to CBI. No person is automatically granted access to CBI: a need to know must exist.

The information that will be transferred to SciMetrika consists of information previously collected by EPA to support the development and review of effluent limitations guidelines and standards under the CWA for the airport deicing point source category.

EPA also intends to transfer to SciMetrika all information listed in this notice, of the type described above (including CBI) that may be collected in the future under the authority of section 308 of the CWA or voluntarily submitted (e.g., in comments in response to a Federal Register notice), as is necessary to enable SciMetrika to carry out the work required by its contract to support EPA's development of effluent limitations guidelines and standards for the airport deicing point source category.

Dated: August 21, 2006.
Ephraim S. King,
Director, Office of Science and Technology.

[FR Doc. E6-14643 Filed 9-1-06; 8:45 am]

BILLING CODE 6560-50-P